DEPARTMENT OF COMMERCE

International Trade Administration

A-565-801

Stainless Steel Butt-Weld Pipe Fittings from the Philippines: Amended Final Determination of Sales at Less Than Fair Value Pursuant to Court Remand

AGENCY: Import Administration, International Trade Administration, Department of Commerce.

SUMMARY: On March 23, 2005, the United States Court of International Trade (CIT) affirmed the Department of Commerce's (the Department's) redetermination on remand of the final determination of sales at less than fair value on stainless steel butt-weld pipe fittings from the Philippines. See Tung Fong Industrial Co., Inc. v. United States, Court No. 01-0070, Slip Op. 05-39 (CIT March 23, 2005) (Tung Fong II). The Department is now issuing this amended final determination reflecting the CIT's decision.

EFFECTIVE DATE: May 25, 2005.

FOR FURTHER INFORMATION CONTACT: Fred Baker at (202) 482-2924 or Robert James at (202) 482-0649, AD/CVD Operations, Office 7, Import Administration, International Trade Administration, U.S. Department of Commerce, 14th Street and Constitution Avenue, NW, Washington, DC 20230.

SUPPLEMENTARY INFORMATION:

Background

On December 27, 2000, the Department published the final determination of sales at less than fair value of stainless steel butt-weld pipe fittings from the Philippines. See Notice of Final Determination of Sales at Less Than Fair Value: Stainless Steel Butt-Weld Pipe Fittings From the Philippines, 65 FR 81823 (December 27, 2000). Respondent Tung Fong Industrial Co., Ltd. (Tung Fong) filed a lawsuit challenging this determination. On April 7, 2004, the CIT issued an Order and Opinion remanding two issues to the Department. See Tung Fong Industrial Co., Inc. v. United States, 318 F. Supp. 2d 1321 (CIT April 7, 2004) (Tung Fong I). Specifically, the CIT ordered the Department to (1) reconsider the adequacy of the domestic manufacturers' petition, and the consequence of the falsity of their allegations of home market sales by Tung Fong; and (2) to reconsider its decision to resort to facts available in calculating Tung Fong's antidumping margin (and, if appropriate, to reevaluate the particular adverse facts available it selected). See Tung Fong I, 318 F. Supp 2d 1321 at 1338. In accordance with the CIT's order in Tung Fong I, the Department filed its remand results on September 7, 2004. On March 23, 2005, the CIT affirmed the Department's final results of remand redetermination in their entirety. See Tung Fong II. Accordingly, we are amending our final determination of sales at less than fair value.

Amendment to Final Determination

The CIT affirmed our final results of redetermination pursuant to Court remand on March 23, 2005. Given the particular circumstances of this case, we consider that the case is now final and conclusive. We are now amending the final determination of sales at less than fair value. We determine that a weighted-average margin of 7.59 percent exists for Tung Fong for the period of investigation, which was October 1, 1998, through September 30, 1999. No entries were enjoined during the pendency of this litigation, and no reviews of entries by any party have been requested or conducted since the less than fair value investigation. Accordingly, the Department will instruct U.S. Customs and Border Protection (CBP) to require a cash deposit of 7.59 percent for all entries of subject merchandise manufactured by Tung Fong beginning April 2, 2005. Furthermore, because the margin we assigned to “all others” in the final determination was based upon the margin we calculated for Tung Fong, we will also instruct CBP that the same cash deposit requirements are applicable to “all others” as are applicable to Tung Fong.

This notice is issued and published in accordance with section 735(d) of the Tariff Act of 1930, as amended.

Dated: May 18, 2005.
Joseph A. Spetrini,
Acting Assistant Secretary for Import Administration.

[FR Doc. E5-2601 Filed 5-24-05; 8:45 am]

BILLING CODE 3510-DS-S